DEPARTMENT OF THE TREASURY

Financial Crimes Enforcement Network

Proposed Collection; Comment Request; Update and Revision of the FinCEN Suspicious Activity Reports Electronic Data Fields

AGENCY: Financial Crimes Enforcement Network (“FinCEN”), U.S. Department of the Treasury.

ACTION: Notice and request for comments.

SUMMARY: FinCEN, a bureau of the U.S. Department of the Treasury (“Treasury”), invites all interested parties to comment on its proposed update and revisions to the collection of information filings by financial institutions required to file such reports under the Bank Secrecy Act (“BSA”). This notice does not propose any new regulatory requirements or changes to the requirements related to suspicious activity reporting. The data fields reflect the filing requirement for all filers of SARs under the BSA. This request for comments is being made pursuant to the Paperwork Reduction Act (PRA) of 1995, Public Law 104-13, 44 U.S.C. 3506(c)(2)(A).

DATES: Written comments are welcome and must be received on or before April 3, 2017.

ADDRESSES: Written comments should be submitted to: Policy Division, Financial Crimes Enforcement Network, Department of the Treasury, P.O. Box 39, Vienna, Virginia 22183, “Attention: PRA Comments—2016 SAR Database.” Comments also may be submitted by electronic mail to the following Internet address: regcomments@fincen.treas.gov, with the caption, “Attention: 2016 SAR Database” in the body of the text. Please submit by one method only.

FOR FURTHER INFORMATION CONTACT: The FinCEN Resource Center at 800-767-2825 or electronically at frc@fincen.gov.

SUPPLEMENTARY INFORMATION: Title: FinCEN Suspicious Activity Report by Financial Institutions (see 31 CFR 1020.320, 1021.320, 1022.320, 1023.320, 1024.320, 1025.320, 1026.320, 1029.320, and 1030.320).

OMB Number: 1506-0065.¹

¹ The SAR regulatory reporting requirements are currently covered under the following OMB Control numbers: 1506-0001 (Depository Institutions), 1506-0006 (Casinos and Card Clubs), 1506-0015 (Money Services Business), 1506-0019 (Securities and Futures Industries), 1506-0029 (Insurance Companies), and 1506-0061 (Residential Mortgage Lenders and Originators). Housing GSE's are not subject to the PRA. OMB Control number 1506-0065 applies to the SAR report, not the regulations.

Form Number: FinCEN 111.

Abstract: The statute generally referred to as the “Bank Secrecy Act,” Titles I and II of Public Law 91-508, as amended, codified at 12 U.S.C. 1829b, 12 U.S.C. 1951-1959, and 31 U.S.C. 5311-5332, authorizes the Secretary of the Treasury, inter alia, to require financial institutions to keep records and file reports that are determined to have a high degree of usefulness in criminal, tax, and regulatory matters, or in the conduct of intelligence or counter-intelligence activities, to protect against international terrorism, and to implement anti-money laundering programs and compliance procedures.² Regulations implementing Title II of the BSA appear at 31 CFR Chapter X. The Secretary has delegated to the Director of FinCEN the authority to administer the BSA.³

² Language expanding the scope of the BSA to intelligence or counter-intelligence activities to protect against international terrorism was added by Section 358 of the Uniting and Strengthening America by Providing Appropriate Tools Required to Intercept and Obstruct Terrorism Act of 2001 (the USA PATRIOT Act), Public Law 107-56.

³ Treasury Order 180-01 (Sept. 26, 2002).

The information collected on the “report” is required to be provided pursuant to 31 U.S.C. 5318(g), as implemented by FinCEN regulations 31 CFR 1020.320, § 1021.320, § 1022.320, § 1023.320, § 1024.320, § 1025.320, § 1026.320, § 1029.320, and § 1030.320. The information collected under this requirement is made available to appropriate agencies and organizations as disclosed in FinCEN's Privacy Act System of Records Notice relating to BSA Reports.⁴

⁴ Department of the Treasury bureaus such as FinCEN renew their System of Records Notices every three years unless there is cause to amend them more frequently. FinCEN's System of Records Notice for BSA Reports System was most recently published at 79 FR 20969 (April 14, 2014).

Current Action: FinCEN is updating and revising several items in the electronic data elements currently supporting the reporting of suspicious financial activities. Attached at the end on this notice is a revised “Summery of Data Fields” that reflects the revised electronic items. Items identified for removal remain usable for entry into the text field associated with the various “z” other boxes. The following updates are proposed;

(1) Type of filing, 1e remove the reference to “document control number”

(2) Add new item 2 “Filing Institution Note to FinCEN” followed by a text field with 100 character limit. This item allows the filer to identify reports filed in response to geographical targeting orders and BSA advisories etc.

(3) Part I, item 24j, remove “no relationship to institution” option. No other changes.

(4) Part II, Items 32a and b, add “or cancels” to the current item, item 32c, remove the current item.

(5) Item 34b add “Advanced Fee” and remove “Business loan”, item 34i, remove mass marketing and replace with “Ponzi Scheme,” item 34l, add “Securities Fraud.”

(6) Item 35, change the section title to “Gaming Activities” item 35a, replace the current item with “Chip walking”, item 35b, replace the current item with “Minimal gaming with large transactions” item 35d, add “Unknown source of chips.

(7) Item 36b, remove the current item and replace with “Funnel account.”

(8) Item 37d, add “Provided questionable or false identification”.

(9) Item 38g, insert “Human Trafficking/Smuggling,” 38i, remove the current item. Item 38p, add “Transaction(s) involving foreign high risk jurisdiction”, item 38q, remove the current entry.

(10) Item 40b, remove “wash trading” from current item and add as a new item e.

(11) Item 41a add new “Application Fraud,” item 41c, add Foreclosure/Short sale fraud, item 41e, add origination fraud, and remove “reverse mortgage fraud.”

(12) Item 42, Add as new category “Cyber-event,” add new 42a “Against the Financial Institution(s),” 42b “Against the Financial Institutions customer(s),” add 42z, “Other” with the associated text field.

(13) Item 43n, remove the term “Penny Stocks”

(14) Item 48 IP Address, add item 48a, Date field (yyyy/mm/dd), and 48b Time field (hh:mm:ss in UTC).

(15) Add new item 49 Cyber-event Indicator (Multiple entries up to 99), add 49a, Command & Control IP Address, 49a1, value Text field,⁵ 49a2, Date associated with the event, 49a3, UTC time hh:mm:ss, add 49b, Command & Control URL/Domain, 49b1, Value text field, add 49c, Malware MD5, Malware SHA-1, or Malware SHA-256, 49c1, Value text field, add 49d Media Access Control (MAC) Address, 49d1, Value text field, add 49e, Port, 49e1, Value text field, add 49f Suspicious E-Mail Address, 49f1, Value text field, add 49g, Suspicious Filename, 49g1, Value text field, add 49h, Suspicious IP Address, 49h1, Value text field, 49h2, Date associated with the event, 49h3, UTC time hh:mm:ss, add 49i Suspicious URL/Domain, 49i1, Value text field, add 49j, Targeted System, 49j1, Value text field, add 49z Other, Text field, 49z1, Value text field.

⁵ Each cyber-event indicator value text field is limited to 100 characters.

(16) Part III, no change to the data items.

(17) Part IV, increase the field length for Part IV, Item 93, “Designated contact office,” to 50 characters.

(18) A comprehensive summary of the proposed SAR data fields appears as an appendix to this notice.

Request comments on the above-proposed updates/revisions and new cyber-event items to the report.

Type of Review: Update and revisions of a currently approved collection.

Affected public: Business or other for-profit and not-for-profit financial institutions.

Frequency: As required.

Estimated Reporting Burden: Average of 60 minutes per report and 60 minutes recordkeeping per filing. (The reporting burden of the regulations 31 CFR 1020.320, 1021.320, 1022.320, 1023.320, 1024.320, 1025.320, 1026.320, 1029.320, and 1030.320, is reflected in the burden for the form.)

Estimated Recordkeeping and Reporting Burden: 120 minutes (60 minutes reporting and 60 minutes recordkeeping, for a total of 2 hours).

Estimated number of respondents: 84,655 (Broker-Dealers, Casinos and Card Clubs, Depository Institutions, Future Commission Merchants, Insurance Companies, Money Services Businesses, Mutual Funds, Non-Bank Residential Mortgage Lenders and Originators). Housing Government Sponsored Enterprises are required to report suspicious activities but are not subject to the PAR.

Estimated Total Annual Responses: 2,348,395.⁶

⁶ Numbers are based on actual 2016 filings as reported to the BSA E-Filing System, as of 01/01/2017.

⁷ Two or more separate financial institutions filing a single SAR. This type of filing constitutes less than 1% of total filings.

Estimated Total Annual Reporting and Recordkeeping Burden: 4,696,790 hours.

Note: A joint filing will increase the burden to 90 minutes reporting and 60 minutes recordkeeping for a total of 2 and ½ hours per report.⁷

An agency may not conduct or sponsor, and a person is not required to respond to, a collection of information unless the collection of information displays a valid OMB control number. Records required to be retained under the BSA must be retained for five years.

Request for Comments

Comments submitted in response to this notice will be summarized and/or included in the request for OMB approval. All comments will become a matter of public record. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance and purchase of services to provide information, and (f) the new cyber-event items.

Jamal El Hindi,
Deputy Director, Financial Crimes Enforcement Network.

Appendix—SAR Comprehensive Summary of Data Fields

Note: Critical fields are identified with the * symbol in front of the data element number.

Type of Filing

* 1. Check all that apply:

a. Initial report

b. Correct/Amend prior report

c. Continuing activity report

d. Joint report

e. Prior report BSA Identification Number if items 1b or 1c are checked

f. BSA Identification Number

2. Filing Institution Note to FinCEN

Part I Subject Information

3. Check:

a. If entity

b. If all critical * subject information is unavailable (does not include item 27)

* 4. Individual's last name or entity's legal name

a. (check if) unknown

* 5. First name

a. (check if) unknown

6. Middle name

7. Suffix

8. Gender

a. (Check if) Male

b. (Check if) Female

c. (Check if) Unknown

9. Alternate name, e.g. AKA—Individual or DBA—Entity (multiple entries allowed)

10. Occupation or type of business

a. NAICS Code

* 11. Address

a. (check if) unknown

* 12. City

a. (check if) unknown

* 13. State

a. (check if) unknown

Note: FinCEN will derive the State through third party data as enhanced data if not provided and Country is US, Mexico or Canada and ZIP/Postal Code is provided.

* 14. ZIP/Postal Code

a. (check if) unknown

Note: FinCEN will derive ZIP + 4 through third party data as enhanced data if not provided or verified through third party data if provided.

New Data Element of County—FinCEN will derive through third party data as enhanced data.

New Data Elements for GEO Coding—FinCEN will derive through third party data as enhanced data.

New Data Element of HIFCA code—FinCEN will derive through third party data as enhanced data.

New Data Element of HIDTA code—FinCEN will derive through third party data as enhanced data.

* 15. Country Code (2 letter code—list provided)

a. (check if) unknown (multiple entries allowed for items 11-15)

* 16. TIN (enter number in space provided and check appropriate type below)

a. (check if) unknown

17. TIN type (* if 16 is known)

a. EIN

b. SSN-ITIN

c. Foreign

* 18. Form of identification for subject: (multiple entries allowed)

a. (check if) unknown

b. (check if) Driver's license/state ID

c. (check if) Passport

d. (check if) Alien registration

e. Number

f. Issuing State

g. Issuing Country

z. (check if) Other (and specify type in space provided)

* 19. Date of birth mm/dd/yyyy

a. (check if) unknown

20. Phone number—type

a. (check if) Home

b. (check if) Work

c. (check if) Mobile

d. (check if) Fax

21. Phone number

a. Extension (if any) (multiple entries allowed for items 20 and 21)

22. Email address (if available) (multiple entries allowed)

22a. Web site (URL) address (if available) (multiple entries allowed)

23. Corroborative statement to filer?

a. (check if) Yes

b. (check if) No

24. Relationship of the subject to an institution listed in Part III or IV (check all that apply)

a. Institution TIN

b. Accountant

c. Agent

d. Appraiser

e. Attorney

f. Borrower

g. Customer

h. Director

i. Employee

j. Officer

k. Owner or Controlling Shareholder

z. Other (and specify type in space provided)

25. If item 24h, i, j, or k is checked, indicate status of relationship

a. (check if) Relationship continues

b. (check if) Terminated

c. (check if) Suspended/barred

d. (check if) Resigned

26. Action date if 25b, c, or d is checked (multiple entries allowed for items 24, 25, and 26)

* 27. Financial Institution TIN and account number(s) affected that are related to subject, if any.

a. (check if) No known account involved

b. (check if) Non-US Financial Institution

c. TIN

d. account number

e. (check if) closed

f. account number

g. (check if) closed

h. TIN

i. account number

j. (check if) closed

k. account number

l. (check if) closed

(multiple financial institution TIN and account number entries allowed)

28. Subject's role in suspicious activity (if applicable)

a. (check if) Purchaser/Sender

b. (check if) Payee/Receiver

c. (check if) Both a & b

Part I Subject Information can be repeated up to a total of 999 subjects.

Part II Suspicious Activity Information

* 29. Amount involved in this report

a. (check if) Amount unknown

b. (check if) No amount involved

* 30. Date or date range of suspicious activity for this report

a. From: mm/dd/yyyy

b. To: mm/dd/yyyy

31. Cumulative amount only if box 1c (continuing activity report) is checked

* (32-42: specific type of suspicious activity) When completing items 32 through 42, check all that apply.

32. Structuring

a. Alters or cancels transaction to avoid BSA recordkeeping requirement

b. Alters or cancels transaction to avoid CTR requirement

c. Transaction(s) below BSA recordkeeping threshold

d. Transaction(s) below CTR threshold

e. Suspicious inquiry by customer regarding BSA reporting or recordkeeping requirements

z. Other (specify type of suspicious activity in space provided)

33. Terrorist Financing

a. Known or suspected terrorist/terrorist organization

z. Other (specify type of suspicious activity in space provided)

34. Fraud

a. ACH

b. Advance Fee

c. Check

d. Consumer loan (see instructions)

e. Credit/Debit card

g. Healthcare

h. Mail

i. Ponzi Scheme

j. Pyramid scheme

k. Securities Fraud

l. Wire

z. Other (specify type of suspicious activity in space provided)

35. Gaming Activities

a. Chip walking

b. Minimal gaming with large transactions

c. Suspicious use of counter checks or markers

d. Unknown source of chips

z. Other (specify type of suspicious activity in space provided)

36. Money laundering

a. Exchanges small bills for large bills or vice versa

b. Funnel account

c. Suspicion concerning the physical condition of funds

d. Suspicion concerning the source of funds

e. Suspicious designation of beneficiaries, assignees or joint owners

f. Suspicious EFT/Wire transfers

g. Suspicious exchange of currencies

h. Suspicious receipt of government payments/benefits

i. Suspicious use of multiple accounts

j. Suspicious use of noncash monetary instruments

k. Suspicious use of third-party transactors (straw-man)

l. Trade Based Money Laundering/Black Market Peso Exchange

m. Transaction out of pattern for customer(s)

z. Other (specify type of suspicious activity in space provided)

37. Identification/Documentation

a. Changes spelling or arrangement of name

b. Multiple individuals with same or similar identities

c. Provided questionable or false documentation

d. Provided questionable or false identification

e. Refused or avoided request for documentation

f. Single individual with multiple identities

z. Other (specify type of suspicious activity in space provided)

38. Other suspicious activities

a. Account takeover

b. Bribery or gratuity

c. Counterfeit instruments

d. Elder financial exploitation

e. Embezzlement/theft/disappearance of funds

f. Forgeries

g. Human Trafficking/Smuggling

h. Identity theft

i. Little or no concern for product performance penalties, fees, or tax consequences

j. Misuse of position or self-dealing

k. Suspected public/private corruption (domestic)

l. Suspected public/private corruption (foreign)

m. Suspicious use of informal value transfer system

n. Suspicious use of multiple transaction locations

o. Transaction with no apparent economic, business, or lawful purpose

p. Transaction(s) involving Foreign high risk jurisdiction

q. Two or more individuals working together

r. Unlicensed or unregistered MSB

z. Other (specify type of suspicious activity in space provided)

39. Insurance

a. Excessive insurance

b. Excessive or unusual cash borrowing against policy/annuity

c. Proceeds sent to or received from unrelated third party

d. Suspicious life settlement sales insurance (e.g. STOLI's, Viaticals)

e. Suspicious termination of policy or contract

f. Unclear or no insurable interest

z. Other (specify type of suspicious activity in space provided)

40. Securities/Futures/Options

a. Insider trading

b. Market manipulation

c. Misappropriation

d. Unauthorized pooling

e. Wash Trading

z. Other (specify type of suspicious activity in space provided)

41. Mortgage fraud

a. Application fraud

b. Appraisal fraud

c. Foreclosure/Shortsale fraud

d. Loan modification fraud

e. Origination fraud

z. Other (specify type of suspicious activity in space provided)

42. Cyber Event

a. Against Financial Institution(s)

b. Against Financial Institution Customer(s)

z. Other (specify type of suspicious activity in space provided)

43. Were any of the following product type(s) involved in the suspicious activity? Check all that apply:

a. Bonds/Notes

b. Commercial mortgage

c. Commercial paper

d. Credit card

e. Debit card

f. Forex transactions

g. Futures/Options on futures

h. Hedge fund

i. Home equity loan

j. Home equity line of credit

k. Insurance/Annuity products

l. Mutual fund

m. Options on securities

n. Microcap securities

o. Prepaid access

p. Residential mortgage

q. Security futures products

r. Stocks

s. Swap, hybrid or other derivative

z. Other (specify type in space provided)

44. Were any of the following instrument type(s)/payment mechanism(s) involved in the suspicious activity? Check all that apply:

a. Bank/cashier's check

b. Foreign currency

c. Funds transfer

d. Gaming instruments

e. Government payment

f. Money orders

g. Personal/Business check

h. Travelers checks

i. U.S. Currency

z. Other (specify type in space provided)

45. Commodity type (if applicable) (multiple entries allowed)

46. Product/Instrument description (if needed) (multiple entries allowed)

47. Market where traded (list of codes will be provided—dropdown menu for electronic filers) (multiple entries allowed)

48. IP Address (if available) (multiple entries allowed)

48a. Date (YYYYMMDD)

48b. Time Stamp(UTC) HH:MM:SS

49. Cyber-Event Indicators (multiple entries up to 99)

49a. Command and Control IP address

49a1 Event value text field (each entry of 49a must have a corresponding event value text field).

49a2 Event value text field (Date associated with the value in 49a1).

49a3 Event value text field (Timestamp associated with the value in 49a1).

49b. Command & Control URL/Domain

49b1 Event value text field (each entry of 49b must have a corresponding event value text field).

49c. Malware MD5, Malware SHA-1, or Malware SHA-256.

49c1 Event value text field (each entry of 49c must have a corresponding event value text field).

49d. Media Access control (MAC) Address

49d1 Event value text field (each entry of 49d must have a corresponding event value text field).

49e. Port

49e1 Event value text field (each entry of 49e must have a corresponding event value text field).

49f. Suspicious Email Address

49f1 Event value text field (each entry of 49f must have a corresponding event value text field).

49g. Suspicious Filename

49g1 Event value text field (each entry of 49g must have a corresponding event value text field).

49h. Suspicious IP Address

49h1 Event value text field (each entry of 49h must have a corresponding event value text field).

49h2 Event value Date associated with the value in 49h1.

49h3 Event value Timestamp associated with the value in 49h1.

49i. Suspicious URL/Domain

49i1 Event value text field (each entry of 49i must have a corresponding event value text field).

49j. Targeted System

49j1 Event value text field (each entry of 49j must have a corresponding event value text field).

49z. Other

49z Text description of Other value

49z1 Event value text field (each entry of 49z must have a corresponding event value text field).

50. CUSIP number (multiple entries allowed)

Part III Information About Financial Institution Where Activity Occurred

* 51. Type of financial institution (check only one)

a. Casino/Card club

b. Depository institution

c. Insurance company

d. MSB

e. Securities/Futures

z. Other (specify type of institution in space provided)

* 52. Primary Federal Regulator (instructions specify banking agencies, SEC, CFTC, IRS)

CFTC

Federal Reserve

FDIC

IRS

NCUA

OCC

SEC

Not Applicable

53. If item 51a is checked, indicate type of gaming institution (check only one)

a. State licensed casino

b. Tribal authorized casino

c. Card club

z. Other (specify type of gaming institution in space provided)

54. If item 51e is checked, indicate type of Securities and Futures institution or individual where activity occurred—check box(es) for functions that apply to this report

a. Clearing broker—securities

b. Futures commission merchant

c. Holding company

d. Introducing broker—commodities

e. Introducing broker—securities

f. Investment adviser

g. Investment company

h. Retail foreign exchange dealer

i. Subsidiary of financial/bank holding company

z. Other (specify type of institution or individual in space provided)

55. Filing institution identification number (Check one box to indicate type)

a. Central Registration Depository (CRD) number

b. Investment Adviser Registration Depository (IARD) number

c. National Futures Association (NFA) number

d. Research, Statistics, Supervision, and Discount (RSSD) number

e. Securities and Exchange Commission (SEC) number

f. Identification number

56. Financial institution's role in transaction (if applicable)

a. (check if) Selling location

b. (check if) Paying location

c. (check if) Both a & b

* 57. Legal name of financial institution

a. (check if) unknown

58. Alternate name, e.g., AKA—individual or trade name, DBA—entity

* 59. TIN (enter number in space provided and check appropriate type below)

a. (check if) unknown

60. TIN type (* if 59 is known)

a. EIN

b. SSN-ITIN

c. Foreign

* 61. Address

a. (check if) unknown

* 62. City

a. (check if) unknown

63. State

Note: FinCEN will derive State through third party data as enhanced data if not provided and Country is US, Mexico or Canada and ZIP/Postal Code is provided.

* 64. ZIP/Postal Code

a. (check if) unknown

Note: FinCEN will derive ZIP + 4 through third party data as enhanced data if not provided or verified through third party data if provided.

New Data Element of County—FinCEN will derive through third party data as enhanced data.

* 65. Country (2 letter code—list provided)

a. (check if) unknown

66. Internal control/file number

67. Loss to financial institution (if applicable)

68. Branch's role in transaction (if applicable)

a. (check if) Selling location

b. (check if) Paying location

c. (check if) Both a & b

* 69. Address of branch or office where activity occurred

a. (if no branch activity involved, check box a)

70. Research, Statistics, Supervision, and Discount (RSSD) number (of the Branch)

71. City

72. State

Note: FinCEN will derive State through third party data as enhanced data if not provided and Country is US, Mexico or Canada and ZIP/Postal Code is provided.

73. ZIP/Postal Code

Note: FinCEN will derive ZIP + 4 through third party data as enhanced data if not provided or verified through third party data if provided.

New Data Element of County—FinCEN will derive through third party data as enhanced data.

New Data Elements for GEO Coding—FinCEN will derive through third party data as enhanced data will be identified for the financial institution and any branches provided.

New Data Element of HIFCA code—FinCEN will derive through third party data as enhanced data will be identified for the financial institution and any branches provided.

New Data Element of HIDTA code—FinCEN will derive through third party data as enhanced data will be identified for the financial institution and any branches provided.

74. Country (2 letter code—list provided) (multiple entries allowed for items 68-74;)

Part III Information about Financial Institution Where Activity Occurred can be repeated up to a total of 99 financial institutions.

Part IV Filing Institution Contact Information

* 75. Primary Federal Regulator (instructions specify banking agencies, SEC, CFTC, IRS)

CFTC

Federal Reserve

FDIC

IRS

NCUA

OCC

SEC

Not Applicable

* 76. Filer name (Holding company, lead financial institution, or agency, if applicable).

* 77. TIN (enter number in space provided and check appropriate type below)

* 78. TIN type

a. EIN

b. SSN/ITIN

c. Foreign

* 79. Type of financial institution (check only one)

a. Casino/Card club

b. Depository institution

c. Insurance company

d. MSB

e. Securities/Futures

z. Other (specify type of institution in space provided)

80. Type of Securities and Futures institution or individual filing this report—check box(es) for functions that apply to this report

a. Clearing broker—securities

b. CPO/CTA

c. Futures commission merchant

d. Holding company

e. Introducing broker—commodities

f. Introducing broker—securities

g. Investment adviser

h. Investment company

i. Retail foreign exchange dealer

j. SRO Futures

k. SRO Securities

l. Subsidiary of financial/bank holding company

z. Other (specify type of institution or individual in space provided)

81. Filing institution identification number (Check one box to indicate type)

a. Central Registration Depository (CRD) number

b. Investment Adviser Registration Depository (IARD) number

c. National Futures Association (NFA) number

d. Research, Statistics, Supervision, and Discount (RSSD) number

e. Securities and Exchange Commission (SEC) number

f. Identification number

* 82. Address

* 83. City

84. State

Note: FinCEN will derive State through third party data as enhanced data if not provided and Country is US, Mexico or Canada and ZIP/Postal Code is provided.

* 85. ZIP/Postal Code

Note: FinCEN will derive ZIP + 4 through third party data as enhanced data if not provided or verified through third party data if provided.

New Data Element of County—FinCEN will derive Derived through third party data as enhanced data.

New Data Elements for GEO Coding—FinCEN will derive through third party data as enhanced data.

* 86. Country (2 letter code—list provided)

87. Alternate name, e.g., AKA—individual or trade name, DBA—entity

88. Internal control/file number

89. LE contact agency

90. LE contact name

91. LE contact phone number

a. Extension (if any)

92. LE contact date

* 93. Designated contact office

* 94. Designated contact office phone number including area code

a. Extension, if any

* 95. Date filed

* Part V Suspicious Activity Information—Narrative

(text field 17,000 characters)

(one attachment permitted—comma separated value (.csv) file, 1 MB maximum size)

[FR Doc. 2017-02235 Filed 2-1-17; 8:45 am]

BILLING CODE 4810-02-P